Title 3—

The President

Proclamation 9378 of December 4, 2015

150th Anniversary of the 13th Amendment

By the President of the United States of America

A Proclamation

On December 6, 1865, a coalition comprising three-quarters of our Nation's States ratified the 13th Amendment to our Constitution, abolishing slavery in the United States and affirming the truth that no union founded on the principles of liberty and equality could survive half-slave and half-free. Bringing to a close one of the most painful chapters in our country's history, the Amendment ushered in a new birth of freedom. Today, we celebrate it for the protections it restored and the lives it liberated, and in honor of the millions of slaves who endured brutal violence and daily indignities, we rededicate ourselves to the proposition manifested in its ratification.

This Amendment to the Constitution came not only at the culmination of years of Civil War, but also as a result of courageous individuals advocating and agitating for an America in which slavery was no longer an institution of society. President Lincoln gave his last full measure of devotion to the cause he would not live to see codified. He knew the basic rights he sought for slaves could only be secured by a whole and unified Government, and he pursued reconciliation while remaining fierce in his conviction. Volunteers along the Underground Railroad aided slaves seeking freedom, providing safety and comfort in the midst of deep anguish. And soldiers who fought, sometimes against their own sisters and brothers, did so for both the preservation of our Union and liberty itself. The 13th Amendment was the product of generations of men and women who, through centuries of bloodshed and systemic oppression, stayed true to their belief in what America could be and kept marching toward justice.

The courage to change that sustained the abolitionist movement carried forth in a long line of heroes who followed—individuals who loved our country profoundly and answered the patriotic call to push it to expand the boundaries of freedom. From ordinary women stepping into an extraordinary role, bravely fighting for their right to participate in our democracy, to a coalition of conscience that marched on our Nation's Capital and protested for equality, the last century and a half has been defined by those who stood resolute in keeping lit the flame that burned in the hearts of all those determined to secure what they knew to be their God-given rights.

Today, we continue the long journey toward an America and a world where liberty and equality are not reserved for some, but extended to all. Across the globe, including right here at home, millions of men, women, and children are victims of human trafficking and modern-day slavery. We remain committed to abolishing slavery in all its forms and draw strength from the courage and resolve of generations past.

One hundred and fifty years after the 13th Amendment's ratification, the United States endures, and though the scourge of slavery is a stain on our history, we remain a people not trapped by the mistakes of our past, but one that can look at our imperfections with humility and decide it is within our power to remake our Nation to more closely align with our highest ideals. On this historic occasion, let us pay tribute to those who suffered for too long and to those who risked everything to make this country better. With unyielding determination to stand on their shoulders and reach for an even freer and more equal tomorrow, we can honor them with the recognition and respect worthy of their extraordinary contributions to our country.

NOW, THEREFORE, I, BARACK OBAMA, President of the United States of America, by virtue of the authority vested in me by the Constitution and the laws of the United States, do hereby proclaim December 6, 2015, as the 150th Anniversary of the 13th Amendment. I call upon the people of the United States to observe this day with appropriate programs, ceremonies, and activities that celebrate the 13th Amendment.

IN WITNESS WHEREOF, I have hereunto set my hand this fourth day of December, in the year of our Lord two thousand fifteen, and of the Independence of the United States of America the two hundred and fortieth.

[FR Doc. 2015-31221

Filed 12-8-15; 11:15 am]

Billing code 3295-F6-P